DEPARTMENT OF THE INTERIOR

Bureau of Land Management

[NMNM 117830]

Notice of Proposed Withdrawal and Opportunity for Public Meeting; New Mexico

AGENCY: Bureau of Land Management, Interior.

ACTION: Notice.

SUMMARY: The Department of Homeland Security (DHS) has filed an application requesting the Secretary of the Interior to withdraw 20 acres of public land from the mining laws for a period of 20 years to protect a Border Patrol Forward Operating Base in Luna County, New Mexico, and to convey jurisdiction of the land to the DHS. This notice temporarily segregates the land for up to 2 years from location and entry under the mining laws while the 20-year withdrawal application is being processed.

DATES: Comments and requests for a public meeting must be received by June 9, 2008.

ADDRESSES: Comments and meeting requests should be sent to the Bureau of Land Management (BLM) Las Cruces District Manager, Las Cruces District Office, 1800 Marquess Street, Las Cruces, New Mexico 88005.

FOR FURTHER INFORMATION CONTACT: Lori Allen, BLM Las Cruces District Office, 575-525-4454 or at the above address.

SUPPLEMENTARY INFORMATION: The applicant for the above withdrawal is the DHS. The application asks the Secretary of the Interior to withdraw, for a period of 20 years, the following described public land from location and entry under the United States mining laws, subject to valid existing rights:

Deming Forward Operating Base

New Mexico Principal Meridian

T. 29 S, R. 12 W.,

Section 3: E½SW¼NE¼.

The area described aggregates 20 acres in Luna County.

The application is a withdrawal proposal of the Secretary of the DHS (43 CFR 2310.1-2). The purpose of the withdrawal is to provide the agents at the Deming Station facilities that would improve response times, increase shift time, expedite illegal alien processing, and provide increased safety and protection of the agents and detainees. The withdrawal is needed to convey jurisdiction of the land to the DHS and to protect the Federal investment in the facilities.

A right-of-way or cooperative agreement would not adequately constrain nondiscretionary uses and would not provide sufficient protection of the Federal investment in the improvements.

The site proposed for withdrawal is strategically located and provides for the most direct access, via existing ranch roads, to the border in areas of high smuggling and illegal alien activity. The site is adjacent to a major roadway; and electric utilities are nearby. There are no better locations for the forward operating base.

Records relating to the proposed withdrawal can be examined by contacting Lori Allen at the above address or phone number.

All persons who wish to submit comments, suggestions, or objections in connection with the proposed withdrawal may present their views in writing to the BLM Las Cruces District Manager at the address listed above by June 9, 2008. Comments, including names and street addresses of respondents, will be available for public review at the BLM Las Cruces District Office at the address listed during regular business hours, 7:45 a.m. to 4:30 p.m., Monday through Friday, except Federal holidays. Before including your address, phone number, e-mail address, or other personal identifying information in your comment, you should be aware that your entire comment—including your personal identifying information—may be made publicly available at any time. While you can ask us in your comment to withhold your personal identifying information from public review, we cannot guarantee that we will be able to do so.

Notice is hereby given that an opportunity for a public meeting is afforded in connection with the proposed withdrawal. All interested persons who desire a public meeting for the purpose of being heard on the proposed withdrawal must submit a written request to the BLM Las Cruces District Manager at the address listed above by June 9, 2008. If the authorized officer determines a public meeting will be held, a notice of the time and place will be published in the Federal Register and a local newspaper at least 30 days before the scheduled date of the meeting.

Licenses, permits, cooperative agreements, and other discretionary land use authorizations may be allowed during the segregative period, but only with the approval of a BLM official and with the concurrence of an authorized officer of the DHS, Border Patrol.

This withdrawal proposal will be processed in accordance with the regulations set forth in 43 CFR part 2300.

For a period of 2 years from the date of publication of this notice in the Federal Register, the land will be segregated as specified above unless the application is denied or cancelled or the withdrawal is approved prior to that date.

(Authority: 43 CFR 2310.3-1)

Bill Childress,
District Manager, Las Cruces.

[FR Doc. E8-4602 Filed 3-7-08; 8:45 am]

BILLING CODE 3710-08-P